FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 28, 2016.

A. Federal Reserve Bank of Chicago (Colette A. Fried, Assistant Vice President) 230 South LaSalle Street, Chicago, Illinois 60690-1414:

1. James J. Dolan, as trustee of Voting Trust Agreement, Patricia D. Dolan as trustee of Royston Road Trust, all of Naples, Florida; Gregory F. Dolan as trustee of JJD 2012 Family Trust, Washington, DC; Emad Murrar, Homer Glen, Illinois, and Alan Reasoner, Round Lake, Illinois; to acquire voting shares of Northwest Bancorporation of Illinois, Inc., and thereby indirectly acquire voting shares of First Bank and Trust Company of Illinois, both in Palatine, Illinois.

B. Federal Reserve Bank of Kansas City (Dennis Denney, Assistant Vice President) 1 Memorial Drive, Kansas City, Missouri 64198-0001:

1. Margaret M. Brownlee, as trustee of the Margaret March Brownlee Trust, both of Orlando, Florida, and Paula March Romanovsky, as trustee of the Paula March Romanovsky Trust, both of San Francisco, California, all as members of the March family group; to retain voting shares of Bank Management, Inc., and thereby indirectly retain voting shares of FirstBank of Nebraska, both in Wahoo, Nebraska.

C. Federal Reserve Bank of Dallas (Robert L. Triplett III, Senior Vice President) 2200 North Pearl Street, Dallas, Texas 75201-2272:

1. Ann Biggs, as trustee of the Gordon Brian Biggs Trust of 2012, the Edward Barrett Biggs Trust of 2012, the Biggs Grandchildren's Trust, and the Glenn Barrett Biggs Trust of 2012, all of San Antonio, Texas; Steven Mack, Boerne, Texas; and Jack Griggs, Abilene, Texas, collectively a group acting in concert; to acquire voting shares of Southwestern Bancorp, Inc., and thereby indirectly acquire voting shares of Texas Heritage Bank, both in Boerne, Texas.

Board of Governors of the Federal Reserve System, March 8, 2016.
Michael J. Lewandowski,
Associate Secretary of the Board.

[FR Doc. 2016-05495 Filed 3-10-16; 8:45 am]

BILLING CODE 6210-01-P